DEPARTMENT OF THE TREASURY

Internal Revenue Service

26 CFR Part 1

[REG-124667-02]

RIN 1545-BA78

Disclosure of Relative Values of Optional Forms of Benefit; Hearing Cancellation

AGENCY: Internal Revenue Service (IRS), Treasury.

ACTION: Cancellation of notice of public hearing on proposed rulemaking.

SUMMARY: This document cancels the public hearing on proposed regulations relating to the disclosure of relative values of optional forms of benefit under section 417 of the Internal Revenue Code.

DATES: The public hearing originally scheduled for Tuesday, January 14, 2003, at 10 a.m., is cancelled.

FOR FURTHER INFORMATION CONTACT: Guy R. Traynor in the Regulations Unit, Associate Chief Counsel (Income Tax & Accounting), at (202) 622-7180 (not a toll-free number).

SUPPLEMENTARY INFORMATION: A notice of proposed rulemaking and notice of public hearing that appeared in the Federal Register on Monday, October 7, 2002 (67 FR 62417), announced that a public hearing was scheduled for January 14, 2003, at 10 a.m., in room 4718 of the Internal Revenue Building, 1111 Constitution Avenue, NW., Washington, DC 20044. The subject of the public hearing is proposed regulations under section 417 of the Internal Revenue Code. The deadline for submitting outlines and requests to speak at the hearing for these proposed regulations expired on January 2, 2003.

The notice of proposed rulemaking and notice of public hearing, instructed those interested in testifying at the public hearing to submit a request to speak and an outline of the topics to be addressed. As of January 3, 2003, no one has requested to speak. Therefore, the public hearing scheduled for January 14, 2003, is cancelled.

Cynthia E. Grigsby,
Chief, Regulations Unit, Associate Chief Counsel, (Income Tax & Accounting).

[FR Doc. 03-352 Filed 1-7-03; 8:45 am]

BILLING CODE 4830-01-P